DEPARTMENT OF HEALTH AND HUMAN SERVICES

Administration for Children and Families

Expedited OMB Review and Public Comment: Office of Community Services Data Collection for the Low Income Home Energy Assistance Program Quarterly Performance and Management Reports (New Collection)

AGENCY: Office of Community Services, Administration for Children and Families, HHS.

ACTION: Request for public comment.

SUMMARY: The Office of Community Services (OCS), Administration for Children and Families (ACF), U.S. Department of Health and Human Services (HHS), requested expedited review of an information collection request from the Office of Management and Budget (OMB) and is inviting public comments on the proposed collection. The forms are necessary to provide data to the Administration, Congress, and other stakeholders in its oversight of recipients' performance in administering the Low Income Home Energy Assistance Program (LIHEAP), particularly the supplemental LIHEAP funds available through the American Rescue Plan. The information collection is essential to the mission of the agency and the use of normal clearance procedures is reasonably likely to disrupt and prevent the collection of information.

DATES: Comments due within 60 days of publication. In compliance with the requirements of the Paperwork Reduction Act of 1995, ACF is soliciting public comment on the specific aspects of the information collection described in this notice.

ADDRESSES: Copies of the proposed collection of information can be obtained and comments may be submitted by emailing infocollection@acf.hhs.gov. All requests should identify the title of the information collection.

SUPPLEMENTARY INFORMATION: Description: The LIHEAP Quarterly Performance and Management Report will provide OCS information necessary to oversee recipients' performance in administering historic levels of LIHEAP funding and reaching the most vulnerable households this winter. The report solicits data on total households assisted (and the total households assisted during the same quarter of the previous FY for comparison); the number of occurrences that LIHEAP prevented the loss of home energy/the number of occurrences that LIHEAP restored home energy; estimated use of LIHEAP funds by LIHEAP funding source; LIHEAP information (e.g., training and technical assistance needs, changes to program policies, collaboration with other federal utility assistance programs, etc.); and any explanation needed regarding the reliability and/or validity of the responses in prior sections. The quarterly report is not an abbreviated version of the LIHEAP Annual Report or Performance Data Form, it is a different form that was designed to focus on how states are leveraging LIHEAP to mitigate rising energy costs this winter and to track the spend down of LIHEAP supplemental funding.

Respondents: LIHEAP grant recipients.

Annual Burden Estimates
Instrument | Total number of respondents | Total number of responses per respondent | Average burden hours per response | Total annual burden hours
Quarterly Performance and Management Report | 206 | 3 | 12 | 7,416

Estimated Total Annual Burden Hours: 7,416.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: 42 U.S.C. 8621.

Mary B. Jones,
ACF/OPRE Certifying Officer.

[FR Doc. 2022-03302 Filed 2-15-22; 8:45 am]

BILLING CODE 4184-80-P